DEPARTMENT OF ENERGY

Federal Energy Regulatory Commission

Combined Notice of Filings #1

Take notice that the Commission received the following electric rate filings:

Docket Numbers: ER20-1113-001.

Applicants: Southwest Power Pool, Inc.

Description: Tariff Amendment: 3616 Iron Star Wind Project/ITC E&P Ag Cancel-Amended Filing to be effective 2/8/2020.

Filed Date: 3/5/20.

Accession Number: 20200305-5060.

Comments Due: 5 p.m. ET 3/26/20.

Docket Numbers: ER20-1164-000.

Applicants: Midcontinent Independent System Operator, Inc.

Description: § 205(d) Rate Filing: 2020-03-04_SA 3438 Entergy Arkansas-Long Lake Solar GIA (J834) to be effective 2/21/2020.

Filed Date: 3/4/20.

Accession Number: 20200304-5295.

Comments Due: 5 p.m. ET 3/25/20.

Docket Numbers: ER20-1167-000.

Applicants: Midcontinent Independent System Operator, Inc., Republic Transmission, LLC.

Description: § 205(d) Rate Filing: 2020-03-04_Republic Transmission Integration Filing to be effective 12/31/9998.

Filed Date: 3/4/20.

Accession Number: 20200304-5247.

Comments Due: 5 p.m. ET 3/25/20.

Docket Numbers: ER20-1168-000.

Applicants: DTE Big Turtle Wind Farm I, LLC.

Description: § 205(d) Rate Filing: DTE Big Turtle Wind Farm I, LLC Notice of Succession to be effective 1/15/2020.

Filed Date: 3/5/20.

Accession Number: 20200305-5056.

Comments Due: 5 p.m. ET 3/26/20.

Docket Numbers: ER20-1169-000.

Applicants: The Dayton Power and Light Company, East Kentucky Power Cooperative, Inc., PJM Interconnection, L.L.C.

Description: § 205(d) Rate Filing: The Dayton Power and Light Company submits IA SA No. 3137 to be effective 5/5/2020.

Filed Date: 3/5/20.

Accession Number: 20200305-5070.

Comments Due: 5 p.m. ET 3/26/20.

Docket Numbers: ER20-1170-000.

Applicants: Electric Energy, Inc.

Description: Tariff Cancellation: Cancellation Open Access Transmission Tariff to be effective 3/5/2020.

Filed Date: 3/5/20.

Accession Number: 20200305-5072.

Comments Due: 5 p.m. ET 3/26/20.

Docket Numbers: ER20-1171-000.

Applicants: PJM Interconnection, L.L.C.

Description: § 205(d) Rate Filing: First Revised ISA, SA No. 5231; Queue No. AC1-048/AC2-053/AE1-006 to be effective 2/4/2020.

Filed Date: 3/5/20.

Accession Number: 20200305-5078.

Comments Due: 5 p.m. ET 3/26/20.

Docket Numbers: ER20-1172-000.

Applicants: Emera Maine.

Description: Tariff Cancellation: Notice of Termination of Expired TSA—ReEnergy Ashland, LLC to be effective 2/28/2020.

Filed Date: 3/5/20.

Accession Number: 20200305-5079.

Comments Due: 5 p.m. ET 3/26/20.

Docket Numbers: ER20-1173-000.

Applicants: Emera Maine.

Description: Tariff Cancellation: Notice of Termination of Expired Interconnect Agreement—ReEnergy Ashland, LP to be effective 2/28/2020.

Filed Date: 3/5/20.

Accession Number: 20200305-5081.

Comments Due: 5 p.m. ET 3/26/20.

Docket Numbers: ER20-1174-000.

Applicants: Midcontinent Independent System Operator, Inc., Otter Tail Power Company.

Description: § 205(d) Rate Filing: 2020-03-05_SA 3440 OTP-Dakota Range III FSA (J488) BSP Switch Replacement to be effective 3/6/2020.

Filed Date: 3/5/20.

Accession Number: 20200305-5083.

Comments Due: 5 p.m. ET 3/26/20.

Docket Numbers: ER20-1175-000.

Applicants: Midcontinent Independent System Operator, Inc., Otter Tail Power Company.

Description: § 205(d) Rate Filing: 2020-03-05_SA 3441 OTP-Tatanka Ridge Wind FSA (J493) BSP Switch Replacement to be effective 3/6/2020.

Filed Date: 3/5/20.

Accession Number: 20200305-5089.

Comments Due: 5 p.m. ET 3/26/20.

Docket Numbers: ER20-1176-000.

Applicants: Midcontinent Independent System Operator, Inc., Otter Tail Power Company.

Description: § 205(d) Rate Filing: 2020-03-05_SA 3342 OTP-Deuel Harvest Wind FSA (J526) BSP Switch Replacement to be effective 3/6/2020.

Filed Date: 3/5/20.

Accession Number: 20200305-5091.

Comments Due: 5 p.m. ET 3/26/20.

Docket Numbers: ER20-1177-000.

Applicants: Southern California Edison Company.

Description: § 205(d) Rate Filing: Amended GIA and DSA San Gorgonio Westwinds II, San Jacinto Power SA No. 863-864 to be effective 5/5/2020.

Filed Date: 3/5/20.

Accession Number: 20200305-5112.

Comments Due: 5 p.m. ET 3/26/20.

Docket Numbers: ER20-1178-000.

Applicants: PJM Interconnection, L.L.C.

Description: § 205(d) Rate Filing: Original ISA, SA No. 5596; Queue No. AD1-020 to be effective 2/4/2020.

Filed Date: 3/5/20.

Accession Number: 20200305-5117.

Comments Due: 5 p.m. ET 3/26/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2020.
Nathaniel J. Davis, Sr.,
Deputy Secretary.

[FR Doc. 2020-04961 Filed 3-10-20; 8:45 am]

BILLING CODE 6717-01-P